DEPARTMENT OF COMMERCE

National Oceanic and Atmospheric Administration

50 CFR Part 660

[Docket No. 060317076-6076-01; I.D. 032006E]

RIN 0648-AU41

Fisheries off West Coast States and in the Western Pacific; Western Pacific Pelagic Fisheries; Fishery Closure

AGENCY: National Marine Fisheries Service (NMFS), National Oceanic and Atmospheric Administration (NOAA), Commerce.

ACTION: Temporary rule; closure.

SUMMARY: NMFS is closing the shallow-set pelagic longline fishery north of the equator for all vessels registered under the Hawaii longline limited access program. This action is necessary to comply with regulations that govern the pelagic fisheries of the western Pacific region that establish maximum annual limits on the numbers of interactions that occur between longline fishing gear and sea turtles. The 2006 annual limit on physical interactions between longline fishing and sea turtles has been reached, so the fishery must be closed for the remainder of the calendar year.

DATES: Effective 7:09 a.m. (0709 hrs) Hawaii Standard Time (HST) on March 20, 2006, through 11:59 p.m. (2359 hrs) HST on December 31, 2006.

FOR FURTHER INFORMATION CONTACT: Robert Harman, NMFS, 808-944-2271.

SUPPLEMENTARY INFORMATION: NMFS manages the pelagic longline fishery for swordfish, tunas and related species in the western Pacific region, according to the Fishery Management Plan for the Pelagic Species of the Western Pacific Region, prepared by the Western Pacific Fishery Management Council under authority of the Magnuson-Stevens Fishery Conservation and Management Act. Regulations governing fishing by U.S. vessels in accordance with the FMP appear at subpart H of 50 CFR part 600 and 50 CFR part 660.

The regulations at § 660.33(b)(1) governing western Pacific pelagic fisheries establish maximum annual limits on the numbers of physical interactions that occur between longline fishing gear and sea turtles. These limits apply to physical interactions experienced by vessels registered under Hawaii longline limited-access permits while engaged in shallow-set longline fishing, i.e., fishing that is directed at swordfish. There are two calendar-year annual limits on physical interactions, one for leatherback sea turtles set at 16, and one for loggerhead sea turtles set at 17.

Interactions with turtles are monitored using data from scientific observers placed by NMFS aboard all vessels engaged in shallow-set longline fishing. NMFS is required to maintain 100 percent observer coverage in the Hawaii shallow-set longline fishery.

The regulations at § 660.33(b)(2) prescribe that, as soon as the interaction limit for either of the two turtle species has been determined to have been reached in a given year, the shallow-set component of the Hawaii-based longline fishery must be closed for the remainder of the calendar year, after giving permit holders and operators actual notice of the closure. Upon receiving actual notice from NMFS, fishermen are required to remove all longline fishing gear from the water and immediately terminate their fishing trip. Once the shallow-set component of the fishery is closed, it is prohibited for any vessel registered under a Hawaii longline limited-access permit to engage in shallow-set longline fishing north of the equator.

In accordance with § 660.33(b)(2), the Regional Administrator, Pacific Islands Region, NMFS, has determined that the 2006 interaction limit of 17 loggerhead turtles has been reached. Consequently, NMFS closed the shallow-set component of the Hawaii-based longline fishery at 7:09 a.m. (0709) HST on March 20, 2006. This closure ends at 11:59 pm (2359 hrs) HST on December 31, 2006.

Classification

This action responds to the best available information obtained from the fishery. The Assistant Administrator for Fisheries, NOAA (AA), finds good cause to waive the requirement to provide prior notice and opportunity for public comment pursuant to the authority set forth at 5 U.S.C. 553(b)(B) as such requirement is impracticable and contrary to the public interest. Given the ability of the fishery to suddenly reach and exceed the low limit on turtle takes, it is impracticable for NMFS to delay implementing the closure. There is insufficient time between when the observer data are collected as to the number of turtle interactions in the fishery and the time the fishery closure must be implemented. If not implemented quickly, the number of allowable interactions will likely be exceeded, thereby imposing harm to the public interest in protecting these turtle species. For the same reasons, the AA also finds good cause to waive the 30-day delay in the effective date of this action under 5 U.S.C. 553(d)(3).

This action is required by § 660.33(b)(2) and is exempt from review under Executive Order 12866.

Authority: 16 U.S.C. 1801 et seq.

Dated: March 20, 2006.
Alan D. Risenhoover,
Acting Director, Office of Sustainable Fisheries, National Marine Fisheries Service.

[FR Doc. 06-2883 Filed 3-21-06; 2:00 pm]

BILLING CODE 3510-22-S